DEPARTMENT OF COMMERCE

International Trade Administration

[A-570-985]

Xanthan Gum From the People's Republic of China: Final Results of Antidumping Duty Administrative Review and Final Determination of No Shipments; 2019-2020

AGENCY: Enforcement and Compliance, International Trade Administration, Department of Commerce.

SUMMARY: The Department of Commerce (Commerce) determines that except for one respondent for which Commerce calculated a zero percent dumping margin, the other companies subject to this administrative review either made sales of subject merchandise at prices below normal value (NV) during the period of review (POR) July 1, 2019, through June 30, 2020, did not ship subject merchandise to the United States during the POR, or were not entitled to a separate rate.

DATES: Applicable February 8, 2022.

FOR FURTHER INFORMATION CONTACT: Abdul Alnoor, AD/CVD Operations, Office IV, Enforcement and Compliance, International Trade Administration, U.S. Department of Commerce, 1401 Constitution Avenue NW, Washington, DC 20230; telephone: (202) 482-4554.

SUPPLEMENTARY INFORMATION:

Background

On August 5, 2021, Commerce published the Preliminary Results and invited interested parties to comment.¹ For details regarding the events that occurred since the Preliminary Results, see the Issues and Decision Memorandum.² Commerce conducted this administrative review in accordance with section 751 of the Tariff Act of 1930, as amended (the Act).

¹ See Xanthan Gum from the People's Republic of China: Preliminary Results of the Antidumping Duty Administrative Review, Partial Rescission of the Antidumping Duty Administrative Review, and Preliminary Determination of No Shipments; 2019-2020, 86 FR 42781 (August 5, 2021) (Preliminary Results), and accompanying Preliminary Decision Memorandum.

² See Memorandum “Issues and Decision Memorandum for the Final Results of the 2019-2020 Antidumping Duty Administrative Review of Xanthan Gum from the People's Republic of China,” (Issues and Decision Memorandum), dated concurrently with, and hereby adopted by, this notice.

Scope of the Order ³

³ See Xanthan Gum from the People's Republic of China: Amended Final Determination of Sales at Less Than Fair Value and Antidumping Duty Order, 78 FR 43143 (July 19, 2013) (Order).

The scope of the Order covers dry xanthan gum, whether or not coated or blended with other products. For a full description of the scope, see the Issues and Decision Memorandum.

Analysis of Comments Received

All issues raised in the case and rebuttal briefs are addressed in the Issues and Decision Memorandum. A list of the issues that parties raised and to which we responded in the Issues and Decision Memorandum is attached to this notice as an appendix. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Determination of No Shipments

In the Preliminary Results, Commerce determined that Shanghai Smart Chemicals Co., Ltd. did not have shipments of subject merchandise during the POR. As we received no information to contradict our preliminary determination with respect to this company, we continue to find that it made no shipments of subject merchandise to the United States during the POR.

Changes Since the Preliminary Results

Based on a review of the record and comments received from interested parties regarding our Preliminary Results, we corrected certain ministerial errors in the calculation of Fufeng's,⁴ one of the mandatory respondents, weighted-average dumping margin. For a discussion of these changes, see the Issues and Decision Memorandum.

⁴ Fufeng refers to a single entity, which includes: Neimenggu Fufeng Biotechnologies Co., Ltd. (aka Inner Mongolia Fufeng Biotechnologies Co., Ltd.); Shandong Fufeng Fermentation Co., Ltd.; and Xinjiang Fufeng Biotechnologies Co., Ltd. (collectively, Fufeng).

Separate Rates

No parties commented on our preliminary separate rate findings. Therefore, we have continued to grant Meihua ⁵ and Fufeng (the mandatory respondents), and two other companies/company groups listed in the “Final Results of Review” section below separate rate status. However, we have continued to deny separate rate status to A.H.A. International Co., Ltd., Hebei Xinhe Biochemical Co., Ltd., Greenhealth International Co., Ltd. (Hong Kong), and Nanotech Solutions SDN BHD.

⁵ Meihua refers to a single entity, which includes: Meihua Group International Trading (Hong Kong) Limited; Langfang Meihua Biotechnology Co., Ltd.; and Xinjiang Meihua Amino Acid Co., Ltd. (collectively, Meihua).

Rate for Non-Examined Separate Rate Respondents

The statute and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually-examined respondents, excluding rates that are zero, de minimis, or based entirely on facts available. When the rates for individually examined companies are all zero, de minimis, or based entirely on facts available, section 735(c)(5)(B) of the Act provides that Commerce may use “any reasonable method” to establish the all others rate.

We calculated a zero percent dumping margin for one of the mandatory respondents in this review, Fufeng, and we based the other mandatory respondent, Meihua's, dumping margin on total AFA. Therefore, we assigned the separate rate respondents a dumping margin equal to the simple average of the dumping margins for Fufeng and Meihua, consistent with the guidance in section 735(c)(5)(B) of the Act.⁶

⁶ See Issues and Decision Memorandum for the discussion of this issue.

Final Results of Review

We are assigning the following dumping margins to the firms listed below for the period July 1, 2019, through June 30, 2020:

Exporter | Weighted-average dumping margins (percentage)
Meihua Group International Trading (Hong Kong) Limited/Langfang Meihua Biotechnology Co., Ltd./Xinjiang Meihua Amino Acid Co., Ltd | 154.07
Neimenggu Fufeng Biotechnologies Co., Ltd. (aka Inner Mongolia Fufeng Biotechnologies Co., Ltd.)/Shandong Fufeng Fermentation Co., Ltd./Xinjiang Fufeng Biotechnologies Co., Ltd | 0.00
Review-Specific Average Rate Applicable to the Following Companies:
Jianlong Biotechnology Co., Ltd. (formerly, Inner Mongolia Jianlong Biochemical Co., Ltd) | 77.04
Deosen Biochemical (Ordos) Ltd./Deosen Biochemical Ltd | 77.04

Disclosure

Pursuant to 19 CFR 351.224(b), within five days of the publication this Federal Register notice, we will disclose to the parties to this proceeding, the calculations that we performed for these final results of review.

Assessment Rates

Pursuant to section 751(a)(2)(C) of the Act and 19 CFR 351.212(b), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

Where the respondent's weighted-average dumping margin is zero or de minimis, or where an importer- (or customer-) specific ad valorem or per-unit rate is zero or de minimis, Commerce will instruct CBP to liquidate appropriate entries without regard to antidumping duties.⁷ For entries that were not reported in the U.S. sales database submitted by an exporter individually examined during this review, but that entered under the case number of that exporter (i.e., at the individually-examined exporter's cash deposit rate), Commerce will instruct CBP to liquidate such entries at the China-wide rate (i.e., 154.07 percent).⁸

⁷ See Antidumping Proceedings: Calculation of the Weighted-Average Dumping Margin and Assessment Rate in Certain Antidumping Proceedings: Final Modification, 77 FR 8101, 8103 (February 14, 2012).

⁸ See Order, 78 FR at 43144.

For any individually-examined respondent whose weighted-average dumping margin is above de minimis (i.e., 0.50 percent), we will calculate importer-specific assessment rates on the basis of the ratio of the total amount of antidumping duties calculated for each importer's examined sales and the total entered value of the sales, in accordance with 19 CFR 351.212(b)(1).⁹

⁹ Id.

For respondents not individually examined in this administrative review that qualified for a separate rate, the assessment rate will be equal to the simple average of the dumping margins assigned to the mandatory respondents in the final results of this review.

For the respondents not eligible for a separate rate and that are part of the China-wide entity, we intend to instruct CBP to apply an ad valorem assessment rate of 154.07 percent (i.e., the China-wide entity rate) to all entries of subject merchandise during the POR that were exported by these companies.

Additionally, if Commerce determines that an exporter under review had no shipments of the subject merchandise, any suspended entries that entered under that exporter's case number will be liquidated at the China-wide rate.

Cash Deposit Requirements

The following cash deposit requirements will be effective for shipments of the subject merchandise entered, or withdrawn from warehouse, for consumption on or after the publication date of the final results of review, as provided for by section 751(a)(2)(C) of the Act: (1) For the exporters listed in the table above, the cash deposit rate will be the rate established in the final results of review that is listed for the exporter in the table; (2) for previously investigated or reviewed China and non-China exporters not listed in the table above that have separate rates, the cash deposit rate will continue to be the existing exporter-specific rate published for the most recent period; (3) for all China exporters of subject merchandise that have not been found to be entitled to a separate rate, the cash deposit rate will be the rate previously established for the China-wide entity, which is 154.07 percent; and (4) for all non-China exporters of subject merchandise which have not received their own rate, the cash deposit rate will be the rate applicable to the China exporter that supplied that non-China exporter. The cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing these final results of administrative review and publishing this notice in accordance with sections 751(a)(1) and 777(i) of the Act.

Dated: January 31, 2022.
Lisa W. Wang,
Assistant Secretary for Enforcement and Compliance.

Appendix I

List of Topics Discussed in the Issues and Decision Memorandum

I. Summary

II. Background

III. Scope of the Order

IV. Changes Since the Preliminary Results

V. Discussion of Issues

Comment 1: The Separate Rate

Comment 2: No Shipments for Deosen Biochemical Ltd.

Comment 3: Ministerial Errors in the Calculation of Fufeng's Margin

Comment 4: Total Adverse Facts Available (AFA) for Meihua

VI. Recommendation

[FR Doc. 2022-02557 Filed 2-7-22; 8:45 am]

BILLING CODE 3510-DS-P